DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with November anniversary dates. In accordance with Commerce's regulations, we are initiating those administrative reviews.

DATES: Applicable January 11, 2018.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with November anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event Commerce decides it is necessary to limit individual examination of respondents and conduct respondent selection under section 777A(c)(2) of the Act:

In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. In order to provide parties additional certainty with respect to when Commerce will exercise its discretion to extend this 90-day deadline, interested parties are advised that Commerce does not intend to extend the 90-day deadline unless the requestor demonstrates that an extraordinary circumstance has prevented it from submitting a timely withdrawal request. Determinations by Commerce to extend the 90-day deadline will be made on a case-by-case basis.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than November 30, 2018.

| Period to be reviewed
Antidumping Duty Proceedings
India: Welded Stainless Pressure Pipe A-533-876 | 5/10/16-10/31/17
Apex Tubes Private Ltd.
Apurvi Industries
Arithat Tubes
Bhandari Foils & Tubes, Ltd.
Divine Tubes Pvt. Ltd.
Heavy Metal & Tubes
Hindustan Inox Ltd.
J.S.S. Steelitalia Ltd.
Linkwell Seamless Tubes Private Limited
Maxim Tubes Company Pvt. Ltd.
MBM Tubes Pvt. Ltd.
Mukat Tanks & Vessel Ltd.
Neotiss Ltd.
Prakash Steelage Ltd.
Quality Staniless Pvt. Ltd.
Raajratna Metal Industries Ltd.
Ratnadeep Metal & Tubes Ltd.
Ratnamani Metals & Tubes Ltd.
Remi Edelstahl Tubulars
Shubhlaxmi Metals & Tubes Private Limited
SLS Tubes Pvt. Ltd.
Steamline Industries Ltd.
Indonesia: Monosodium Glutamate A-560-826 | 11/1/16-10/31/17
PT Cheil Jedang Indonesia
PT Miwon Indonesia
Mexico: Certain Circular Welded Non-Alloy Steel Pipes and Tubes A-201-805 | 11/1/16-10/31/17
Acerorey
Arcelormittal Monterrey
Arco Metal
Fischer Mexicana
Forza Steel
Mach 1 Aero Servicios S De RL De Cv
Nacional De Acero
Nova Steel
Perfiles Y Herrajes
Precitubo
Procarsa
Productos Especializados De Acero
Productos Laminados de Monterrey, S.A. de C.V.
PYTCO, S.A. de C.V.
Regiomontana de Perfiles y Tubos, S.A. de C.V.
Rymco Conduit S.A. De C.V.
Swecomex S.A. De C.V.
Ternium Tuberia
Tubac
Tubacero
Tuberia Laguna
Tubesa
Tubos Omega
Tumex
Villacero Tuna
Mexico: Steel Concrete Reinforcing Bar A-201-844 | 11/1/16-10/31/17
Deacero S.A.P.I de C.V.
Grupo Simec
Simec International 6 S.A. de C.V.
Orge S.A. de C.V.
Industrias CH
Ternium Mexico, S.A. de C.V.
ArcelorMittal Lazaro Cardenas S.A. de C.V.
Cia Siderurgica De California, S.A. de C.V.
Siderurgica Tultitlan S.A. de C.V.
Talleres y Aceros, S.A. de C.V.
Grupo Villacero S.A. de C.V.
AceroMex S.A.
ArcelorMittal Celaya
ArcerlorMittal Cordoba S.A. de C.V.
Simec International 6 S.A. de C.V.
Republic of Korea: Circular Welded Non-Alloy Steel Pipe A-580-809 | 11/1/16-10/31/17
Aju Besteel
Bookook Steel
Chang Won Bending
Dae Ryung
Daewoo Shipbuilding & Marine Engineering (Dsme)
Daiduck Piping
Dong Yang Steel Pipe
Dongbu Steel
Eew Korea Company
Histeel
Husteel
Hyundai Rb
Hyundai Steel (Pipe Divison)
Hyundai Steel Company
Kiduck Industries
Kum Kang Kind
Kumsoo Connecting
Miju Steel Mfg
Nexteel
Samkang M&T
Seah Fs
Seah Steel
Steel Flower
Vesta Co., Ltd.
Yep Co.
Taiwan: Certain Circular Welded Non-Alloy Steel Pipe A-583-814 | 11/1/16-10/31/17
Chung Hung Steel
Femco
Founder Land
Kao Hsing Chang Iron & Steel Corp.
Kounan Steel
Luen Jin
Mayer Steel Pipe
Shin Yang Steel
Tension Steel Industries
Vulcan Industrial
Wan Chi Steel Industrial
The People's Republic of China: Diamond Sawblades and Parts Thereof A-570-900 | 11/1/16-10/31/17
ASHINE Diamond Tools Co., Ltd.
Bosun Tools Co., Ltd.
Chengdu Huifeng New Material Technology Co., Ltd.⁴
Danyang City Ou Di Ma Tools Co., Ltd.
Danyang Hantronic Import & Export Co., Ltd.
Danyang Huachang Diamond Tools Manufacturing Co., Ltd.
Danyang Like Tools Manufacturing Co., Ltd.
Danyang NYCL Tools Manufacturing Co., Ltd.
Danyang Tsunda Diamond Tools Co., Ltd.
Danyang Weiwang Tools Manufacturing Co., Ltd.
Danyang Youhe Tool Manufacturer Co., Ltd.
Guilin Tebon Superhard Material Co., Ltd.
Hangzhou Deer King Industrial and Trading Co., Ltd.
Hangzhou Kingburg Import & Export Co., Ltd.
Hebei XMF Tools Group Co., Ltd.
Henan Huanghe Whirlwind Co., Ltd.
Henan Huanghe Whirlwind International Co., Ltd.
Hong Kong Hao Xin International Group Limited
Hubei Changjiang Precision Engineering Materials Technology Co., Ltd.
Hubei ShengBaiRui Diamond Tools Co., Ltd.
Husqvarna (Hebei) Co., Ltd.
Huzhou Gu's Import & Export Co., Ltd.
Jiangsu Fengtai Single Entity ⁵
Jiangsu Huachang Tools Manufacturing Co., Ltd.
Jiangsu Inter-China Group Corporation
Jiangsu Youhe Tool Manufacturer Co., Ltd.
Orient Gain International Limited
Pantos Logistics (HK) Company Limited
Pujiang Talent Diamond Tools Co., Ltd.
Qingdao Hyosung Diamond Tools Co., Ltd.
Qingdao Shinhan Diamond Industrial Co., Ltd.
Qingyuan Shangtai Diamond Tools Co., Ltd.
Quanzhou Zhongzhi Diamond Tool Co., Ltd.
Rizhao Hein Saw Co., Ltd.
Saint-Gobain Abrasives (Shanghai) Co., Ltd.
Shanghai Jingquan Industrial Trade Co., Ltd.
Shanghai Starcraft Tools Company Limited
Sino Tools Co., Ltd.
Weihai Xiangguang Mechanical Industrial Co., Ltd.
Wuhan Baiyi Diamond Tools Co., Ltd.
Wuhan Sadia Trading Co., Ltd.
Wuhan Wanbang Laser Diamond Tools Co., Ltd.⁶
Wuhan ZhaoHua Technology Co., Ltd.
Xiamen ZL Diamond Technology Co., Ltd.
Zhejiang Wanli Tools Group Co., Ltd.
The People's Republic of China: Certain Hot-Rolled Carbon Steel Flat Products A-570-865 | 11/1/16-10/31/17
Baoshan Iron and Steel Co., Ltd.
Baosteel Group Corporation
Shanghai Baosteel International Economic & Trading Co., Ltd.
Shanghai Meishan Iron & Steel
Union Steel China
The People's Republic of China: Fresh Garlic A-570-831 | 11/1/16-10/31/17
Bestway Logistics Inc.
Chengwu County Yuanxiang Industry & Commerce Co., Ltd.
Chengwu Yuanxiang Industry and Commerce Co., Ltd.
China Union Agri. (Qingdao) Co., Ltd.
Dongying Richmond International
Foshan Fuyi Food Co., Ltd.
Hebei Golden Bird Trading Co., Ltd.
Jiangyoung Gunagfa Vegetable Professional Cooperation
Jinan Farmlady Trading Co., Ltd.
Jining Alpha Food Co., Ltd.
Jining City Billion Garlic Products Co., Ltd.
Jining New Silk Road Food Co., Ltd.
Jining Rich Farmer International
Jining Shengtai Fruits & Vegetables Co., Ltd.
Jining Shunchang Import & Export Co., Ltd.
Jining Yifa Garlic Produce Co., Ltd.
Jining Yongjia Trade Co., Ltd.
Jinxiang County Jinji Trade Co., Ltd.
Jinxiang Feiteng Import & Export Co., Ltd.
Jinxiang Hejia Co., Ltd.
Jinxiang Hongyu Freezing & Storing Co., Ltd.
Jinxiang Kingkey Trade Co., Ltd.
Jinxiang Richfar Fruits & Vegetables Co., Ltd.
Juxian Huateng Organic Ginger Co., Ltd.
Laiwu Ever Green Food Co., Ltd.
Lanling Xinxinyuan Food Co., Ltd.
Pinacle Sourcing & Marketing, Ltd.
Qingdao Gabsan Trading Co., Ltd.
Qingdao Jiashan Trading Co., Ltd.
Qingdao Joinseafoods
Qingdao Justop Industries and Trading Co., Ltd.
Qingdao Lianghe International Trade Co., Ltd.
Qingdao Maycarrier Import & Export Co., Ltd.
Qingdao Ritai Food Co., Ltd.
Qingdao Sea-Line International Trading Co., Ltd.
Qingdao Tiantaixing Foods Co., Ltd.
Qingdao Xintianfeng Foods Co., Ltd.
Shandong Chenhe International Trading Co., Ltd.
Shandong Galaxy International
Shandong Happy Foods Co., Ltd.
Shandong Helu International Trade Co., Ltd.
Shandong Jinxiang Zhengyang Import & Export Co., Ltd.
Shandong Lejianda Food Co., Ltd.
Shenzhen Bainong Co., Ltd.
Shenzhen Xinboda Industrial Co., Ltd.
Shijiazhuang Goodman Trading Co., Ltd.
Victoria Foods Co., Ltd.
Weifang Hongqiao International Logistics Co., Ltd.
Weifang Huashun Import & Export Co., Ltd.
Weifang Naike Food Co., Ltd.
Weifang Wangyuan Food Co., Ltd.
Zhengzhou Harmoni Spice Co., Ltd.
Zhengzhou Yudishengjin Agricultural Trade Co., Ltd.
The People's Republic of China: Monosodium Glutamate A-570-992 | 11/1/16-10/31/17
Anhui Fresh Taste International Trade Co., Ltd.
Baoji Fufeng Biotechnologies Co., Ltd.
Blu Logistics (China) Co., Ltd.
Bonroy Group Limited
Forehigh Trade and Industry Co. Ltd.
Fujian Province Jianyang Wuyi MSG Co., Ltd.
Golden Banyan Foodstuffs Industry Co., Ltd.
Henan Lotus Flower Gourmet Powder Co.
Hong Kong Sungiven International Food Co., Limited
Hulunbeier Northeast Fufeng Biotechnologies Co., Ltd.
K&S Industry Limited
King Cheong Hong International
Langfang Meihua Bio-Technology Co., Ltd.
Liangshan Linghua Biotechnology Co., Ltd.
Lotus Health Industry Holding Group
Meihau Group International Trading (Hong Kong) Limited
Meihua Holdings Group Co., Ltd., Bazhou Branch
Neimenggu Fufeng Biotechnologies Co., Ltd.
Pudong Prime Int'l Logistics, Inc.
Qinhuangdao Xingtai Trade Co., Ltd.
S.D. Linghua M.S.G. Incorporated Co.
Shandong Linghua Monosodium Glutamate Incorporated Company
Shanghai Totole Food Ltd.
Shijiazhuang Standard Imp & Exp Co., Ltd.
Sunrise (HK) International Enterprise Limited
Tongliao Meihua Biological Sci-Tech Co., Ltd.
Zhejiang Medicines & Health
The People's Republic of China: Polyethlene Terephthalate (Pet) Film A-570-924 | 11/1/16-10/31/17
Fuwei Films (Shandong) Co., Ltd.
Shaoxing Xiangyu Green Packing Co., Ltd.
Sichuan Dongfang Insulating Material Co. Ltd.
Tianjin Wanhua Co., Ltd.
The People's Republic of China: Seamless Refined Copper Pipe and Tube A-570-964 | 11/1/16-10/31/17
Golden Dragon Precise Copper Tube Group, Inc.
United Arab Emirates: Polyethylene Terephthalate (Pet) Film A-520-803 | 11/1/16-10/31/17
Flex Middle East FZE
JBF RAK LLC
Countervailing Duty Proceedings
India: Welded Stainless Pressure Pipe C-533-868 | 3/11/16-12/31/16
Sunrise Stainless Private Limited
Sun Mark Stainless Pvt. Ltd.
Shah Foils Ltd.
The People's Republic of China: Certain Passenger Vehicle and Light Truck Tires ⁷ C-570-017 | 1/1/16-12/31/16
Kumho Tire Co., Inc.
The People's Republic of China: Chlorinated Isocyanurates C-570-991 1/1/16-12/31/16
Heze Huayi Chemical Co. Ltd.
Juancheng Kangtai Chemical Co., Ltd.
Turkey: Steel Concrete Reinforcing Bar C-489-819 | 1/1/16-12/31/16
Acemar International Limited
Agir Haddecilik A.S.
As Gaz Sinai ve Tibbi Gazlar A.S.
Asil Celik Sanayi ve Ticaret A.S.
Colakoglu Dis Ticaret A.S.
Colakoglu Metalurji A.S.
Duferco Investment Services SA
Duferco Celik Ticaret Limited
Ege Celik Endustrisi Sanayi ve Ticaret A.S.
Ekinciler Demir ve Celik Sanayi Anonim Sirketi
Habas Sinai ve Tibbi Gazlar Istihsal Endustrisi A.S.
Icdas Celik Enerji Tersane ve Ulasim Sanayi A.S.
Izmir Demir Celik Sanayi A.S.
Kaptan Demir Celik Endustrisi ve Ticaret A.S.
Kaptan Metal Dis Ticaret Ve Nakliyat A.S.
Kocaer Haddecilik Sanayi Ve Ticar L
Mettech Metalurji Madencilik Muhendislik Uretim Danismanlik ve Ticaret Limited Sirketi
MMZ Onur Boru Profil A.S.
Ozkan Demir Celik Sanayi A.S.
Wilmar Europe Trading BV
Suspension Agreements
None

Duty Absorption Reviews

⁴ Commerce determined that Chengdu Huifeng New Material Technology Co., Ltd. is the successor-in-interest to Chengdu Huifeng Diamond Tools Co., Ltd. See Diamond Sawblades and Parts Thereof from the People's Republic of China: Final Results of Antidumping Duty Changed Circumstances Review, 82 FR 60177 (December 19, 2017).

⁵ Jiangsu Fengtai Diamond Tool Manufacture Co., Ltd., Jiangsu Fengtai Tools Co., Ltd., and Jiangsu Fengtai Sawing Industry Co., Ltd., comprise the Jiangsu Fengtai Single Entity. See Diamond Sawblades and Parts Thereof from the People's Republic of China: Final Results of Antidumping Duty Administrative Review; 2014-2015, 82 FR 26912, 26913, n. 5 (June 12, 2017). We received review requests for Jiangsu Fengtai Diamond Tool Manufacture Co., Ltd., and Jiangsu Fengtai Tools Co., Ltd.

⁶ Wuhan Wanbang Laser Diamond Tools Co., Ltd., is the successor-in-interest to Wuhan Wanbang Laser Diamond Tools Co. See Diamond Sawblades and Parts Thereof from the People's Republic of China: Final Results of Antidumping Duty Changed Circumstances Review, 81 FR 20618 (April 8, 2016).

⁷ This company was inadvertently omitted from the initiation notice that published on October 16, 2017 (82 FR 48051).

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁸ Parties are hereby reminded that revised certification requirements are in effect for company/government officials as well as their representatives. All segments of any antidumping duty or countervailing duty proceedings initiated on or after August 16, 2013, should use the formats for the revised certifications provided at the end of the Final Rule.⁹ Commerce intends to reject factual submissions in any proceeding segments if the submitting party does not comply with applicable revised certification requirements.

⁸ See section 782(b) of the Act.

⁹ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: January 8, 2018.
James Maeder,
Senior Director performing the duties of Deputy Assistant Secretary for Antidumping and Countervailing Duty Operations.

[FR Doc. 2018-00356 Filed 1-10-18; 8:45 am]

BILLING CODE 3510-DS-P